DEPARTMENT OF THE INTERIOR

Bureau of Ocean Energy Management

30 CFR Part 550

[Docket ID: BOEM-2013-0081]

RIN 1010-AD82

Air Quality Control, Reporting, and Compliance

AGENCY: Bureau of Ocean Energy Management (BOEM), Interior.

ACTION: Proposed rule; notice of extension of public comment period.

SUMMARY: BOEM is extending the public comment period to submit comments on the proposed rule entitled “Air Quality Control, Reporting, and Compliance,” which was published in the Federal Register on April 5, 2016. The original public comment period to submit comments on this rulemaking would have ended on June 6, 2016. However, BOEM has received public comments requesting an extension of the comment period. BOEM has reviewed the extension requests and has determined that a 14-day comment period extension to June 20, 2016, is appropriate. The proposed rule specified a separate, shorter period to submit comments to the Office of Management and Budget on the information collection (IC) burden in this rulemaking. That comment period ended on May 5, 2016, and will not be extended.

DATES: The comment period for comments on the substance of the proposed rule published on April 5, 2016 (81 FR 19717), has been extended. Written comments must be received by the extended due date of June 20, 2016. BOEM may not fully consider comments received after this date.

ADDRESSES: You may submit comments identified by the number 1010-AD82, by any of the following methods:

• Federal rulemaking portal: http://www.regulations.gov. Follow the instructions for submitting comments.

• Mail: Department of the Interior, Bureau of Ocean Energy Management, Office of Policy, Regulation and Analysis, Attention: Peter Meffert, 45600 Woodland Road, Sterling, Virginia 20166.

• Hand delivery: Front Desk, Department of the Interior, Bureau of Ocean Energy Management, Office of Policy, Regulation and Analysis, Attention: Peter Meffert, 45600 Woodland Road, Sterling, Virginia 20166.

• Public Availability of Comments: BOEM does not consider anonymous comments; please include your name and address as part of your submittal. Before including your name, address, phone number, email address, or other personally identifiable information in your comment, you should be aware that your entire comment—including your personally identifiable information—may be made publicly available at any time. While you can ask us in your comment to withhold your personally identifiable information from public review, we cannot guarantee that we will be able to do so.

FOR FURTHER INFORMATION CONTACT: Peter Meffert, Bureau of Ocean Energy Management, Office of Policy, Regulation and Analysis, at peter.meffert@boem.gov or mail to 45600 Woodland Road, Sterling, Virginia 20166; or call (703) 787-1610.

SUPPLEMENTARY INFORMATION: BOEM published a proposed rule on Air Quality Control, Reporting, and Compliance on April 5, 2016. The proposed rule is intended to revise and replace BOEM's air quality regulations with a new set of regulations that reflect a number of policy changes with respect to the existing air quality regulatory program. The key policy changes in the proposed rule relate to: (1) Fulfilling BOEM's statutory responsibility under section 5(a)(8) of the Outer Continental Shelf Lands Act by addressing all relevant criteria and major precursor air pollutants and by cross-referencing the ambient air quality standards and benchmarks (AAQSB) for those pollutants to those of the U.S. Environmental Protection Agency; (2) formalizing the concept and application of the term “attributed emissions”; (3) changing the methods for determining the locations from which air emissions will be measured and evaluated; (4) modifying the process by which emission exemption threshold (EETs) are established and updated; (5) changing the circumstances when emission reduction measures (ERM), including Best Available Control Technology (BACT), are required, and establishing new criteria for the application of ERM; (6) revising the boundary at which BOEM determines air quality compliance to the State seaward boundary (SSB), rather than the coastline; (7) formalizing requirements for the consolidation of emissions from multiple facilities; (8) consistent with BOEM's existing regulatory authority, articulating a schedule for ensuring that plans, including previously approved plans, will be compliant with these updated regulations; (9) adding an air quality component to the submission of right-of-use and easement, right-of-way, and lease term pipeline applications; (10) expanding use of the offsets as an alternative in circumstances where BACT was previously required; and (11) adding a new requirement for all plans to be reviewed at least every 10 years, to ensure ongoing compliance with the National Ambient Air Quality Standards (NAAQS), as amended from time to time.

After publication of the proposed rule, BOEM received public comments requesting an extension.

On March 17, 2016, BOEM issued a press release to notify the public that the proposed rule would be issued and provided an internet link to an advance copy of the proposed rule. On April 5, 2016, BOEM issued the proposed rule with a requirement to submit comments on the substance of this rulemaking by June 6, 2016. BOEM is extending the comment period to June 20, 2016. With more than 90 days of public inspection, BOEM has concluded that interested parties will have sufficient opportunity to analyze the proposed rule and provide comment. Accordingly, written comments on the substance of this rulemaking must be submitted by the extended due date of June 20, 2016.

The proposed rule specified a separate, shorter period to submit comments to the Office of Management and Budget on the information collection (IC) burden in this rulemaking. That comment period ended on May 5, 2016, and will not be extended.

Dated: May 17, 2016.
Amanda C. Leiter,
Acting Assistant Secretary—Land and Minerals Management.

[FR Doc. 2016-12099 Filed 5-20-16; 8:45 am]

BILLING CODE 4310-MR-P